GENERAL SERVICES ADMINISTRATION

Federal Travel Regulation (FTR)

Maximum Per Diem Rates for the District of Columbia and the states of Arizona, California, Colorado, Florida, Illinois, Maine, Maryland, Michigan, Minnesota, Montana, Nevada, New Mexico, Tennessee, and Texas

AGENCY: Office of Governmentwide Policy, General Services Administration (GSA).

ACTION: Notice of Per Diem Bulletin 06-04, revised continental United States (CONUS) per diem rates.

SUMMARY: The General Services Administration (GSA) has reviewed the lodging rates for the District of Columbia, as well as certain non-standard locations in the States of Arizona, California, Colorado, Florida, Illinois, Maine, Maryland, Michigan, Minnesota, Montana, Nevada, New Mexico, Tennessee, and Texas using more current lodging industry data, as well as data on where Federal travelers actually stay when visiting these locations. Also, GSA has reviewed the meals and incidental expenses (M&IE) rate of certain non-standard locations in the States of Illinois, Michigan, Montana, and New Mexico. Finally, GSA is combining Stateline, Nevada with Carson City, Nevada (currently a standard continental United States (CONUS) location), so Carson City's per diem rate will be the same rate that Stateline currently has. The per diems prescribed in Bulletin 06-04 may be found at http://www.gsa.gov/perdiem.

DATES: This notice is effective February 1, 2006 and applies to travel performed on or after February 1, 2006.

FOR FURTHER INFORMATION CONTACT: For clarification of content, contact Patrick McConnell, Office of Governmentwide Policy, Travel Management Policy, at (202) 501-2362. Please cite FTR Per Diem Bulletin 06-04.

SUPPLEMENTARY INFORMATION:

A. Background

After an analysis of the per diem rates established for FY 2006 (see the Federal Register notices at 70 FR 52100, September 1, 2005, 70 FR 59349, October 12, 2005, and 70 FR 68457, November 10, 2005), the per diem rates are being changed in the following locations:

District of Columbia

• Washington, District of Columbia; Arlington, Fairfax and Loudoun counties in the State of Virginia; Montgomery and Prince Georges counties in the State of Maryland.

State of Arizona

• Coconino County (except the city of Sedona)

• Pima County

State of California

• Los Angeles, Orange, and Ventura Counties, Edwards Air Force Base

• Santa Barbara County

State of Colorado

• Denver, Adams, Arapahoe, Jefferson and Douglas Counties

State of Florida

• Escambia County

State of Illinois

•Will County

State of Maine

• York County

State of Maryland

• Frederick County

State of Michigan

• Wayne County

State of Minnesota

• Dakota County

State of Montana

• Lewis and Clark County

State of Nevada

• Douglas and Carson City Counties

State of New Mexico

• Taos County

State of Tennessee

• Anderson County

State of Texas

• El Paso County

B. Procedures

Per diem rates are published on the Internet at www.gsa.gov/perdiemas FTR Per Diem Bulletins, notice of which is published in the Federal Register on a periodic basis. This process ensures timely increases or decreases in per diem rates established by GSA for Federal employees on official travel within CONUS. Notices published periodically in the Federal Register, such as this one, now constitute the only notification of revisions in CONUS per diem rates to agencies.

Dated: January 17, 2006.
Becky Rhodes,
Deputy Associate Administrator.Office of Transportation and Personal Property.

[FR Doc. 06-613 Filed 1-20-06; 8:45 am]

BILLING CODE 6820-14-S